ENVIRONMENTAL PROTECTION AGENCY

40 CFR Part 52

[EPA-R04-OAR-2025-0045; FRL-12937-01-R4]

Air Plan Approval; GA; Removal of Emissions Statements Requirement and Updates To Permit by Rule

AGENCY: Environmental Protection Agency (EPA).

ACTION: Proposed rule.

SUMMARY: The Environmental Protection Agency (EPA) is proposing to approve a State Implementation Plan (SIP) revision submitted by the State of Georgia, through the Georgia Environmental Protection Division (GA EPD), on June 27, 2024, seeking to revise a source monitoring and reporting regulation by, among other things, removing the requirement for emissions statements in counties formerly designated as nonattainment for ozone and to revise the permit by rule regulation. EPA is proposing to approve these revisions pursuant to the Clean Air Act (CAA or Act).

DATES: Comments must be received on or before September 11, 2025.

ADDRESSES: Submit your comments, identified by Docket ID No. EPA-R04-OAR-2025-0045 at regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Weston Freund, Air Regulatory Management Section, Air Planning and Implementation Branch, Air and Radiation Division, U.S. Environmental Protection Agency, Region 4, 61 Forsyth Street SW, Atlanta, Georgia 30303-8960. The telephone number is (404) 562-8773. Mr. Freund can also be reached via electronic mail at freund.weston@epa.gov.

SUPPLEMENTARY INFORMATION:

I. Background

EPA is proposing to approve changes to the Georgia SIP submitted by the State on June 27, 2024, to revise a source monitoring and reporting regulation and the permit by rule regulation.¹ Specifically, the changes address Rules 391-3-1-.02(6), Source Monitoring, and 391-3-1-.03(11)(b)7, Coating and/or Gluing Operations.²

¹ On July 9, 2025, EPA received a letter from GA EPD clarifying that the changes to 391-3-1-.03(11)(b)7.(i). do not include the language, “or enforceable as a practical matter limiting the source to below Part 70 or Part 63 major source thresholds.” This phrase was originally submitted to EPA on December 15, 2011, and was subsequently included in a partial withdrawal letter dated January 8, 2019.

² The June 27, 2024, submittal also contains changes to Rules 391-3-1-.02(1), General Requirement; 391-3-1-.02(2)(nnn), NOX Emissions from Large Stationary Gas Turbines; 391-3-1-.03(1), Construction (SIP) Permit; 391-3-1-.03(6)(j), Construction Permit Exemption for Pollution Control Projects; 391-3-1-.03(8), Permit Requirements; and 391-3-1-.03(13), Emission Reduction Credits. EPA will address these changes in a separate rulemaking.

Effective August 3, 2018, EPA designated seven counties in and around metropolitan Atlanta as nonattainment and classified them as a “marginal” nonattainment area for the 2015 8-hour ozone NAAQS (hereinafter referred to as the Atlanta 2015 8-hour Ozone Area).³ See 83 FR 25776 (June 4, 2018). In 2022, EPA redesignated the Atlanta 2015 8-hour Ozone Area to attainment for the 2015 8-hour ozone standard. See 87 FR 62733 (October 17, 2022).

³ The Atlanta 2015 8-hour Ozone Area consists of the following counties: Bartow, Clayton, Cobb, DeKalb, Fulton, Gwinnett, and Henry. The 2015 8-hour ozone NAAQS is set at 0.070 ppm based on an annual fourth-highest daily maximum 8-hour average concentration averaged over three years.

Prior to the redesignation to attainment for the 2015 ozone NAAQS, Georgia was required to submit SIP revisions to include certain ozone nonattainment provisions within its SIP, including nonattainment new source review (NNSR) and emissions statements provisions. See generally CAA section 172(c)(5) (addressing NNSR); CAA section 173 (same); 40 CFR 51.1314 (addressing NNSR for 2015 ozone NAAQS nonattainment areas); CAA section 182(a)(3)(b) (addressing emissions statements). In 2022, EPA approved Georgia's SIP revisions addressing NNSR and emissions statements requirements for the 2015 ozone NAAQS for the Atlanta 2015 8-hour Ozone Area. See 87 FR 3677 (January 25, 2022), 87 FR 13179 (March 9, 2022). No nonattainment areas now exist for any criteria pollutant in Georgia. See 40 CFR 81.311.

As a result of the redesignation of the Atlanta 2015 8-hour Ozone Area to attainment for the 2015 8-hour ozone standard, Georgia's SIP is not required to contain emissions statements requirements for this standard within this geographic area. Georgia's June 27, 2024, revision, as discussed in more detail below, would therefore remove the emissions statements rules from Georgia's SIP as obsolete. The revision also seeks to make minor changes to the portion of the permit by rule regulation for coating and/or gluing operations that applies in certain counties formerly designated as nonattainment for ozone. Georgia's submittal includes a demonstration, pursuant to CAA section 110(l), that the revision would not interfere with any applicable requirement concerning attainment of the NAAQS and reasonable further progress (RFP) or any other applicable requirement of the CAA. EPA's analysis of Georgia's June 27, 2024, SIP revision and the Agency's rationale for proposing to approve these changes are provided below.

II. EPA's Analysis of the State's Submittal

A. Subparagraph 391-3-1-.02(6)(a), Specific Monitoring and Reporting Requirements for Particular Sources

CAA section 182(a)(3)(B) requires states with an ozone nonattainment area to submit a SIP revision requiring stationary sources in the nonattainment area emitting volatile organic compounds (VOCs) or oxides of nitrogen (NOX) to provide certified annual emissions statements to the state showing actual VOC and NOX emissions from the source, with an exemption for stationary sources that emit less than 25 tons per year of VOCs or NOX provided that the SIP revision meets certain requirements. On March 9, 2022, EPA approved Georgia's SIP revision addressing the emissions statements requirement for the 2015 ozone NAAQS for the Atlanta Area. See 87 FR 13179. That requirement exists in the SIP at Rule 391-3-1-.02(6)(a)4., “Emission Statements.” The June 27, 2024, revision requests the removal of Rule 391-3-1-.02(6)(a)4. from the Georgia SIP. Additionally, the submission replaces “section” and “paragraph” with “paragraph” and “subparagraph,” respectively, throughout Rule 391-3-1-.02(6)(a).

Section 110(l) of the CAA prevents EPA from approving a SIP revision that would interfere with any applicable requirement concerning attainment and RFP, or any other applicable CAA requirement. EPA proposes to approve the revisions to Rule 391-3-1-.02(6)(a) described above because they will not interfere with any CAA requirement. Georgia has no areas designated by EPA as in nonattainment of the NAAQS, and therefore, the CAA emissions statements requirements for nonattainment areas are not applicable at this time. Furthermore, the revisions will not interfere with attainment of the NAAQS or RFP.

B. Subparagraph 391-3-1-.03(11)(b)7., Coating and/or Gluing Operations

Rule 391-3-1-.03(11), Permit by Rule, sets forth conditions for permits by rule. Subparagraph (b)7., Coating and/or Gluing Operations, is a permit by rule regulation with specific conditions for coating and/or gluing operations, including more stringent conditions for sources located in the 13 counties previously designated as nonattainment for the 1979 1-hour ozone NAAQS.⁴ Specifically, as approved into the SIP, coating and/or gluing operations in Cherokee, Clayton, Cobb, Coweta, DeKalb, Douglas, Fayette, Forsyth, Fulton, Gwinnett, Henry, Paulding, and Rockdale Counties must utilize coatings with less than 5 tons of any individual hazardous air pollution (HAP), less than 12.5 tons of collective HAPs, and less than 25 tons of VOCs in any rolling 12-month period. Sources seeking coverage under the permit by rule located outside these specific counties can utilize coatings containing up to 50 tons of VOCs in a rolling 12-month period.

⁴ Some of these counties were designated as nonattainment for the 1997, 2008, and 2015 8-hour ozone NAAQS. These counties are currently designated as attainment for all ozone NAAQS.

The June 27, 2024, revision modifies Rule 391-3-1-.03(11)(b)7.(ii)(IV) by removing the first use of the phrase “ozone non-attainment counties” which precedes, and is shorthand for, a list of the aforementioned 13 counties. The revision retains the list of 13 counties at that location and then removes the remaining use of the phrase “ozone non-attainment counties,” replacing it with the list of 13 counties. Because the changes merely remove the shorthand phrase “ozone non-attainment counties,” instead listing all 13 counties covered by the Rule 391-3-1-.03(11)(b)7.(ii)(IV), they does not relax or modify any existing requirements in this rule for sources located in these 13 counties.

Additionally, the submission replaces “section” and “paragraph” with “paragraph” and “subparagraph” respectively, throughout the rule for consistency. EPA is proposing to approve the aforementioned changes to Rule 391-3-1-.03(11)(b)7. in the Georgia SIP because they would not interfere with any applicable requirement concerning attainment and RFP, or any other applicable requirement of the Act.

III. Incorporation by Reference

In this document, EPA is proposing to include in a final EPA rule regulatory text that includes incorporation by reference. In accordance with requirements of 1 CFR 51.5, and as discussed in Sections I and II of this preamble, EPA is proposing to incorporate by reference the following rules into Georgia's SIP with a state-effective date of June 19, 2023: Rule 391-3-1-.02(6)(a), Specific Monitoring and Reporting Requirements for Particular Sources and Rule 391-3-1-.03(11)(b)7., Coating and/or Gluing Operations.⁵ EPA has made, and will continue to make, these materials generally available through www.regulations.gov and at the EPA Region 4 office (please contact the person identified in the “For Further Information Contact” section of this preamble for more information).

⁵ Except that EPA is not proposing to incorporate by reference into the SIP the phrase “or enforceable as a practical matter limiting the source to below Part 70 or Part 63 major source thresholds” within Rule 391-3-1-.03(11)(b)7., Coating and/or Gluing Operations.

IV. Proposed Action

For the reasons discussed above, EPA is proposing to approve the June 27, 2024, Georgia SIP revision consisting of the changes to Rule 391-3-1-.02(6), Source Monitoring, and Rule 391-3-1-.03(11)(b)7., Permit by Rule, both of which are state effective June 19, 2023.

V. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this proposed action merely proposes to approve state law as meeting Federal requirements and does not impose additional requirements beyond those imposed by state law. For that reason, this proposed action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Ozone, Reporting and recordkeeping requirements, Volatile organic compounds.

Authority: 42 U.S.C. 7401 et seq.

Dated: August 11, 2025.
Kevin McOmber,
Regional Administrator, Region 4.

[FR Doc. 2025-15986 Filed 8-20-25; 8:45 am]

BILLING CODE 6560-50-P